DEPARTMENT OF ENERGY

Federal Energy Regulatory Commission

[Project No. 13438-000]

FFP Iowa 1, LLC; Notice of Preliminary Permit Application Accepted for Filing and Soliciting Comments, Motions To Intervene, and Competing Applications

October 23, 2009.

On April 28, 2009, FFP Iowa 1, LLC filed an application, pursuant to section 4(f) of the Federal Power Act, proposing to study the feasibility of the Mississippi River Lock and Dam No. 12 Water Power Project (Lock & Dam 12 Project), to be located at River Mile 556.7 on the Mississippi River in Jackson County, Iowa, and Jo Daviess County, Illinois, and in the town of Bellevue, Iowa.

The proposed Lock & Dam 12 Project would be located at the existing U.S. Army Corps of Engineers Lock & Dam No. 12. The proposed project would consist of: (1) 21 640-kilowatt (kW) Very Low Head (VHL) generating units to be installed integral with the dam and 80 35-kW hydrokinetic generating units to be installed in the Mississippi River in an area just downstream of the dam with a total capacity of about 16,200 megawatts; and (2) a new 3.5-mile-long, 69-kilovolt (or greater) transmission line connected to an existing above-ground local distribution system. The project would have an estimated average annual generation of 79,500 megawatt-hours.

Applicant Contact: Mr. Daniel R. Irvin, Free Flow Power Corporation, 33 Commercial Street, Gloucester, MA 01930, phone (978) 252-7631.

FERC Contact: Patrick Murphy, (202) 502-8755.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13438) in the docket number field to access the document. For assistance, call toll-free 1-866-208-3372.

Kimberly D. Bose,
Secretary.

[FR Doc. E9-26242 Filed 10-30-09; 8:45 am]

BILLING CODE 6717-01-P